DEPARTMENT OF THE INTERIOR

Fish and Wildlife Service

Availability of an Environmental Assessment and Receipt of Applications for Incidental Take Permits for the Arnaudo Brothers, Wathen-Castanos, and River East Holding Sites in Merced County, CA

AGENCY: Fish and Wildlife Service, Interior.

ACTION: Notice of availability; reopening of public comment period.

SUMMARY: The Fish and Wildlife Service (Service) is reopening the public comment period on the Draft Arnaudo Brothers, Wathen-Castanos and River East Holding Habitat Conservation Plan (HCP) and Draft Environmental Assessment (EA) for an incidental take permit for the endangered San Joaquin kit fox (Vulpes macrotis mutica, “kit fox”) in Merced County, California.

DATES: To ensure consideration of comments, they must be received on or before April 29, 2005.

ADDRESSES: Please address written comments to Ms. Lori Rinek, U.S. Fish and Wildlife Service, 2800 Cottage Way, Room W-2605, Sacramento, California 95825. You also may send comments by facsimile to (916) 414-6713.

FOR FURTHER INFORMATION CONTACT: Ms. Lori Rinek, Chief, Conservation Planning and Recovery Division, at (916) 414-6600.

SUPPLEMENTARY INFORMATION:

Availability of Documents

You may obtain copies of these documents for review by contacting the above office [see for further information contact]. Documents also will be available for public inspection, by appointment, during normal business hours at the above address [see addresses] and at the following website: http://www.harveyecology.com/.

Background

The Arnaudo Brothers, Wathen-Castanos, and River East Holding Sites (Applicants) have applied to the Service for incidental take permits pursuant to section 10(a)(1)(B) of the Endangered Species Act (Act) of 1973, as amended. The Service is considering issuing 10-year permits to the Applicants that would authorize take of the endangered kit fox incidental to otherwise lawful activities associated with the residential and commercial development of four sites in Merced County, California. The projects would result in the incidental take of kit fox on the project sites through permanent removal off 182 acres of habitat. Incidental take may also potentially occur during construction and ground disturbance activities, which may affect occupied dens and individuals foxes.

On February 7, 2005, we published a “Notice of Availability of an Environmental Assessment and Receipt for Applications for Incidental Take Permits for the Arnaudo Brothers, Wathen-Castanos, and River East Holding Sites in Merced County, California” (70 FR 6452). In that notice, we requested public comment on the Draft HCP and Draft EA. The Draft EA is the Federal document that analyzes the impacts of the HCP. The analyses provided in the Draft EA is intended to inform the public of the proposed action, alternatives, and associated impacts; disclose the direct, indirect, and cumulative environmental effects of the proposed action and each of the alternatives; and indicate any irreversible commitment of resources that would result from implementation of the proposed action.

The comment period for the February 7, 2005, notice closed on March 9, 2005. We are now reopening the comment period until April 29, 2005. Comments on the Draft HCP, and Draft EA need not be resubmitted, as they will be fully considered in the final decision documents.

This notice is provided pursuant to section 10(a) of the Act as amended (16 U.S.C. 1531 et seq.), and the Service regulations (40 CFR 1506.6) for implementing the National Environmental Policy Act of 1969, as amended (42 U.S.C. 4321 et seq.).

Dated: March 24, 2005.
Ken McDermond,
Deputy Manager, California/Nevada Operations Office, Sacramento, California.

[FR Doc. 05-6242 Filed 3-24-05; 8:45 am]

BILLING CODE 4310-55-M